ENVIRONMENTAL PROTECTION AGENCY

40 CFR Part 63

[EPA-HQ-OAR-2014-0741; FRL-9980-84-OAR]

National Emission Standards for Hazardous Air Pollutants for Chemical Recovery Combustion Sources at Kraft, Soda, Sulfite, and Stand-Alone Semichemical Pulp Mills

AGENCY: Environmental Protection Agency (EPA).

ACTION: Notification of final action denying petition for reconsideration.

SUMMARY: The U.S. Environmental Protection Agency (EPA) is providing notice that it has responded to a petition for reconsideration of the final National Emission Standards for Hazardous Air Pollutants (NESHAP) for Chemical Recovery Combustion Sources at Kraft, Soda, Sulfite, and Stand-Alone Semichemical Pulp Mills published in the Federal Register on October 11, 2017. The Acting Administrator denied the petition in a separate letter to the petitioners. The letter, which provides a full explanation of the agency's rationale for the denial, is in the rulemaking docket.

DATES: July 12, 2018.

FOR FURTHER INFORMATION CONTACT: Dr. Kelley Spence, Sector Policies and Programs Division (E143-03), Office of Air Quality Planning and Standards, Environmental Protection Agency, Research Triangle Park, North Carolina 27711; telephone number: (919) 541-3158; fax number: (919) 541-0516; email address: spence.kelley@epa.gov.

SUPPLEMENTARY INFORMATION:

I. How can I get copies of this document and other related information?

This Federal Register document, the petition for reconsideration, and the letter denying the petition for reconsideration are available in the docket the EPA established under Docket ID No. EPA-HQ-OAR-2014-0741. All documents in the docket are listed on the www.regulations.gov website. Although listed, some information is not publicly available, e.g., confidential business information or other information whose disclosure is restricted by statute. Certain other material, such as copyrighted material, is not placed on the internet and will be publicly available only in hard copy form. Publicly available docket materials are available either electronically through www.regulations.gov or in hard copy at the EPA Docket Center (EPA/DC), Room 3334, EPA WJC West Building, 1301 Constitution Ave. NW, Washington, DC. The Public Reading Room is open from 8:30 a.m. to 4:30 p.m., Monday through Friday, excluding legal holidays. The telephone number for the Public Reading Room is (202) 566-1744 and the telephone number for the Air Docket is (202) 566-1742.

II. Judicial Review

Section 307(b)(1) of the Clean Air Act (CAA) indicates which Federal Courts of Appeals have venue for petitions for review of final EPA actions. This section provides, in part, that the petitions for review must be filed in the United States Court of Appeals for the District of Columbia Circuit if: (1) The agency action consists of “nationally applicable regulations promulgated, or final action taken, by the Administrator,” or (2) such actions are locally or regionally applicable, if “such action is based on a determination of nationwide scope or effect and if in taking such action the Administrator finds and publishes that such action is based on such a determination.”

The EPA has determined that its action denying the petition for reconsideration is nationally applicable for purposes of CAA section 307(b)(1) because the action directly affects the NESHAP for Chemical Recovery Combustion Sources at Kraft, Soda, Sulfite, and Stand-Alone Semichemical Pulp Mills, which are nationally applicable CAA section 112 standards. Any petitions for review of the letter denying the petition for reconsideration must be filed in the United States Court of Appeals for the District of Columbia Circuit by September 10, 2018.

III. Description of Action

On October 11, 2017, pursuant to sections 112(d)(6) and (f)(2) of the CAA, the EPA published the final residual risk and technology review (RTR) of the “National Emission Standards for Hazardous Air Pollutants for Chemical Recovery Combustion Sources at Kraft, Soda, Sulfite, and Stand-Alone Semichemical Pulp Mills.” 82 FR 47328. Following publication of the final RTR amendments, the Administrator received a petition for reconsideration of two aspects of the final RTR pursuant to CAA section 307(d)(7)(B). The petitioners, Earthjustice on behalf of Crossett Concerned Citizens for Environmental Justice, Louisiana Environmental Action Network, PT AirWatchers, and Sierra Club, claimed: (1) It was impracticable to object to the EPA's rationale for not setting additional standards for uncontrolled emissions when the EPA was conducting the review required by CAA section 112(d)(6), and their objections on this issue are of central relevance to the outcome of the rule; and (2) it was impracticable to object during the comment period to the EPA's use of census block centroids to account for the residual risk to the most exposed individual, and their objections on this issue are of central relevance to the outcome of the rule.

CAA section 307(d)(7)(B) requires the EPA to convene a proceeding for reconsideration of a rule if a party raising an objection to the rule “can demonstrate to the Administrator that it was impracticable to raise such objection within [the public comment period] or if the grounds for such objection arose after the period for public comment (but within the time specified for judicial review) and if such objection is of central relevance to the outcome of the rule.” The requirement to convene a proceeding to reconsider a rule is, thus, based on the petitioner demonstrating to the EPA both: (1) That it was impracticable to raise the objection during the comment period, or that the grounds for such objection arose after the comment period, but within the time specified for judicial review (i.e., within 60 days after publication of the final rulemaking in the Federal Register, see CAA section 307(b)(1)); and (2) that the objection is of central relevance to the outcome of the rule.

The EPA carefully reviewed the petition for reconsideration and evaluated the issues raised to determine if they meet the CAA section 307(d)(7)(B) criteria for reconsideration. In a separate letter to the petitioners, the EPA Acting Administrator, Andrew R. Wheeler, denied the petition for reconsideration. The letter is available in the docket for this action.

Dated: July 9, 2018.
Andrew R. Wheeler,
Acting Administrator.

[FR Doc. 2018-15023 Filed 7-11-18; 8:45 am]

BILLING CODE 6560-50-P